DEPARTMENT OF ENERGY

Federal Energy Regulatory Commission

[Docket No. EL06-46-000]

Tucson Electric Power Company, Complainant, v. El Paso Electric Company, Respondent; Notice of Complaint

January 17, 2006.

Take notice that on January 11, 2006, Tucson Electric Power Company (TEP) filed a complaint against El Paso Electric Company (EPE) pursuant to Rule 206 of the Commission's Rules. TEP states that EPE has refused to permit TEP to use transmission rights on certain EPE transmission facilities that were assigned to it in a Tucson-El Paso Power Exchange and Transmission Agreement on file with the Commission (Power Exchange Agreement) for transmission of electricity from the newly-constructed Luna Generating Station near Deming, NM, to the TEP electric system. TEP has asked for Fast Track Processing of the Complaint and for prompt issuance of an order requiring EPE to refrain from disconnecting the Luna Generating Station to the TEP grid and to transmit electricity from TEP's share of the Luna Generating Station to the TEP service territory in accordance with the terms of the Power Exchange Agreement.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 31, 2006.

Magalie R. Salas,
Secretary.

[FR Doc. E6-792 Filed 1-23-06; 8:45 am]

BILLING CODE 6717-01-P